DEPARTMENT OF ENERGY

Federal Energy Regulatory Commission

[Docket No. AC06-153-000]

Transcontinental Gas Pipe Line Corporation; Notice of Restatement of Financial Statements

June 9, 2006.

Take notice that on April 11, 2006, Transcontinental Gas Pipeline Corporation (Transco) notified the Commission, by letter, of its intent to restate financial statements for 2004. Transco states that the restatement is to correct an error related to methodology used to calculate the average cost of its natural gas inventory. Transco states that it intends to file its revised 2004 Form 2, containing restated financial statements for the years 2003 and 2004. Transco further states that it also intends to record the adjustment applicable to periods prior to 2003 in Account 439, Adjustments to Retain Earnings.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 23, 2006.

Magalie R. Salas,
Secretary.

[FR Doc. E6-9398 Filed 6-15-06; 8:45 am]

BILLING CODE 6717-01-P